DEPARTMENT OF COMMERCE

Bureau of Industry and Security

15 CFR Part 705

[Docket No. 250728-0130]

RIN 0625-AB30

Adoption and Procedures of the Section 232 Automobile Parts Tariff Inclusions Process

AGENCY: Bureau of Industry and Security, U.S. Department of Commerce.

ACTION: Interim final rule.

SUMMARY: On March 26, 2025, the President issued Proclamation 10908, “Adjusting Imports of Automobiles and Automobile Parts into The United States” (Automobile Proclamation). The Automobile Proclamation required the Secretary of Commerce to establish a process for including additional automobile parts articles for passenger vehicles and light trucks within the scope of the tariffs imposed by the President in the Automobile Proclamation. This interim final rule (IFR) establishes the requisite process.

DATES: This rule is effective September 17, 2025. Comments on this interim final rule must be received by the International Trade Administration no later than November 3, 2025.

ADDRESSES: Public comments on this rule are to be made via https://www.regulations.gov/docket/ITA-2025-0041. The regulations.gov ID for this rule is: ITA-2025-0041. Please refer to RIN 0625-AB30 in all comments. All filers submitting comments in regulations.gov should use the name of the person or entity submitting the comments as the name of their files, in accordance with the instructions below. Anyone submitting business confidential information should clearly identify the business confidential portion at the time of submission, file a statement justifying nondisclosure and referring to the specific legal authority claimed, and provide a non-confidential version of the submission.

For comments submitted electronically containing business confidential information, the file name of the business confidential version should begin with the characters “BC.” Any page containing business confidential information must be clearly marked “BUSINESS CONFIDENTIAL” on the top of that page. The corresponding non-confidential version of those comments must be clearly marked “PUBLIC.” The file name of the non-confidential version should begin with the character “P.” Any submissions with file names that do not begin with either a “BC” or a “P” will be assumed to be public and will be made publicly available at: https://www.regulations.gov. Commenters submitting business confidential information are encouraged to scan a hard copy of the non-confidential version to create an image of the file, rather than submitting a digital copy with redactions applied, to avoid inadvertent redaction errors which could enable the public to read business confidential information.

FOR FURTHER INFORMATION CONTACT: For questions regarding this interim final rule, contact Emily Davis, Director for Public Affairs, International Trade Administration, U.S. Department of Commerce, 202-482-3809, Emily.Davis@trade.gov.

SUPPLEMENTARY INFORMATION:

I. Background

A. Section 232 and Adjustments of Imports of Automobile Parts

On March 26, 2025, the President issued Proclamation 10908, “Adjusting Imports of Automobiles and Automobile Parts into The United States,” 90 FR 14705 (April 3, 2025) (Automobile Proclamation), which imposed additional tariffs on certain automobiles and automobile parts. The Automobile Proclamation also required the Secretary of Commerce (Secretary) to establish a process for including additional automobile parts articles within the scope of the tariffs imposed by the President in the Automobile Proclamation. In addition to inclusions made by the Secretary, this process provides for including additional automobile parts articles at the request of a domestic producer of an automobile or automobile parts article, or an industry association representing one or more such producers, where the request establishes that imports of additional automobile parts articles have increased in a manner that threatens to impair the national security or otherwise undermines the objectives set forth in Proclamation 9888 (84 FR 23433, May 17, 2019), the Automobile Proclamation, or any subsequent proclamation addressing the threatened impairment to the national security under Section 232 of the Trade Expansion Act of 1962, as amended (19 U.S.C. 1862) (Section 232). When the Secretary receives such a request from a domestic producer or industry association, the Secretary, after consultation with the United States International Trade Commission and U.S. Customs and Border Protection, is to issue a determination regarding whether to include the articles within 60 days of receiving the request. Any additional automobile parts articles that the Secretary has determined to be included within the scope of the tariffs described in the Automobile Proclamation are to be so included on or after 12:01 a.m. eastern daylight time the day after a notice in the Federal Register describing the Secretary's determination. The notice in the Federal Register is to be made as soon as practicable but no later than 14 days after the Secretary's determination.

The International Trade Administration (ITA), in this interim final rule (IFR), establishes the process for including additional automobile parts articles within the scope of the tariffs imposed by the President in the Automobile Proclamation. While the Bureau of Industry and Security (BIS) is promulgating this rule, ITA will administer the process described in the rule.

B. Purpose of This IFR

The Automobile Proclamation required that this process be established within 90 days, meaning no later than June 24, 2025. The Secretary of Commerce established the automobile parts articles inclusion process on June 24, 2025, as required by the Automobile Proclamation. See https://www.trade.gov/press-release/department-commerce-announces-new-auto-parts-tariff-inclusions-process. ITA, through BIS, is publishing this IFR to inform the public of the establishment of this process. The automotive industry is in a state of rapid development for various technologies, including in the areas of alternative propulsion systems, autonomous driving capabilities, and other advanced technologies. It is important that manufacturers supporting both the commercial vehicle industry and the defense sector have the opportunity to identify new and emerging automotive products with importance for defense applications to be considered under the scope of this action. In addition, there are many automotive products that fall under broad tariff codes that include parts beyond the automotive sector. While the Department made a best estimate of the most important tariff codes to apply to the scope of the Section 232 action, industry experts may be aware of broad Harmonized Tariff Schedule of the United States (HTSUS) codes that have become increasingly important to automotive uses that were not originally considered under this investigation. It is expected that up to 50 respondents from the private sector will complete submissions to be considered for automobile parts inclusion submissions in connection with Proclamation 10908. Those submissions are estimated to take each respondent eight hours to complete, four times per year, resulting in total estimated respondent burden of approximately 1,600 hours.

C. Submitting Public Comments on This Interim Final Rule

The comment submission process on this IFR is separate and distinct from the comment submission process for the inclusion requests. For submitting comments on this IFR in regulations.gov, follow the instructions as specified in the ADDRESSES section of this IFR. For submitting comments on inclusion requests, please follow the instructions as provided in the regulatory text within Supplement No. 2 to 15 CFR 705.

II. Amendments To Establish the Automobiles Inclusions Process

A. Submission Phase

Domestic producers of automobiles or automobile parts articles, or any industry association representing one or more such producers, may submit automobile parts articles inclusion requests during two-week submission windows that ITA will open four times annually at the beginning of each January, April, July, and October, and the first such window is to open for two weeks on October 1, 2025. All two-week submissions will occur on the first of the prescribed months. Submissions of inclusions requests must be submitted in PDF format via email to AutoInclusions@trade.gov. For the request to be considered valid, the requestor must provide the following in their request:

• Clear identification of the requestor (i.e., producer of an automobile or automobile parts article, or an industry association of such producers);

• A precise description of the automobile parts article that is the subject of the request;

• The eight or ten-digit HTSUS classification requested to be included in the scope of the tariffs;

• An explanation of why the article is an automobile parts article;

• Pertinent information on the domestic industry affected;

• Statistics on imports and domestic production;

• A description of how and to what extent imports of the article have increased in a manner that threatens to impair the national security or otherwise undermines the objectives set forth in Proclamation 9888, the Automobile Proclamation, or any subsequent proclamation addressing the threatened impairment to the national security;

• Any business confidential submissions must also include a non-confidential public version; and

• All information submitted must be limited to 30 pages inclusive of all attachments.

ITA will review the received requests on a rolling basis during the two-week submission window to validate that each received request contains all the required elements and does not exceed the page limitation. In the instance where the requestor does not include all the required elements or otherwise improperly filed the submission, at the discretion of the Under Secretary for International Trade, the requestor will be granted a 48-hour window to submit a proper filing. The use of fixed submission windows will provide predictability to industry and will be the most efficient use of ITA resources given the short timeframes to secure and process public comments and provide recommendations.

B. Review and Public Comment Phase

ITA will publicly post non-confidential versions of all valid requests for a 14-day public comment window on regulations.gov after the conclusion of the two-week submission window. Collecting public comments will ensure a transparent, complete, and legally robust process for conducting analysis and making final determinations of inclusion requests. This action will also represent confirmation of receipt and acceptance by ITA, initiating the 60-day timeline for processing automobile parts articles inclusion requests as directed in the Automobile Proclamation. ITA will begin analysis of each accepted inclusion request concurrently with the start of the public comment window. Each inclusion request will be assessed for: (1) whether the described product at the eight- or ten-digit HTSUS classification is an automobile parts article; and (2) whether imports of such automobile parts articles have increased in a manner that threatens to impair the national security or otherwise undermines the objectives set forth in Proclamation 9888, the Automobile Proclamation, or any subsequent proclamation addressing the threatened impairment to the national security.

Where and How To Submit Public Comments

Public comments on inclusion requests are to be submitted through regulations.gov, via the regulations.gov IDs through the Federal eRulemaking website at: https://www.regulations.gov, within the 14-day public comment window. The following regulations.gov IDs correspond to the four annual windows: January regulations.gov ID: ITA-2025-0039, April regulations.gov ID: ITA-2025-0040, July regulations.gov ID: ITA-2025-0037; and October regulations.gov ID: ITA-2025-0038. No other submission methods are being used for submitting public comments for the inclusions process. This comment submission process for inclusion requests is separate and distinct from the process for submitting public comments on this IFR. To submit comments on this IFR, follow the instructions as specified in the ADDRESSES section of this IFR.

C. Decision Phase

With respect to each request, the Secretary or designee will make a positive or negative determination. After the determination, ITA will generate and publicly post a determination memorandum in regulations.gov for each inclusions request within 60 days of receiving the requests that: (1) states whether the request was approved or denied; and (2) summarizes the rationale for making this determination. The date of the determination must be prior to the close of the respective 60-day processing period, as directed in the Automobile Proclamation. A Federal Register notice will then be issued that announces the modification of Annex I to the Automobile Proclamation with the included products at the eight- to ten-digit HTSUS subheading. Duties on newly included articles will take effect shortly thereafter through coordination with U.S. Customs and Border Protection. The Federal Register notice will note the effective date of duties on the newly included notice.

III. Regulatory Changes

The following provisions are being added as Supplement No. 2 to Part 705:

• An introductory paragraph is added to explain the background and establishment of the Section 232 automobile parts articles inclusion process;

• Paragraph (a) is added to explain the scope of the automobile parts articles inclusion process;

• Paragraph (b) is added to provide information on who may submit an inclusion request;

• Paragraph (c) is added to provide the timeframes for submitting inclusion requests and to provide requestors with information on the submission windows of when to submit their requests;

• Paragraph (d) is added to provide requestors information on where to submit inclusion requests, the general requirements for submitting an inclusion request, and the information required in the request;

• Paragraph (e) is added to explain to requestors the review process of received requests and the process for correcting invalid submissions;

• Paragraph (f) is added to provide information on where and how to submit public comments;

• Paragraph (g) is added to provide information to requestors and commenters on the review and public comment phase; and

• Paragraph (h) is added to detail the procedures ITA takes with determinations made regarding the inclusion requests.

IV. Rulemaking Requirements

1. Executive Orders 12866 and 13563 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This IFR has been determined to be a “significant regulatory action,” although not economically significant under section 3(f)(1), of Executive Order 12866. Pursuant to the Automobile Proclamation, the establishment of procedures for an inclusions process shall be published in the Federal Register. This IFR is exempt from Executive Order 14192 because it is being issued with respect to a national security function of the United States.

2. The Paperwork Reduction Act of 1995 (44 U.S.C. 3501 et seq.) (PRA) provides that an agency generally cannot conduct or sponsor a collection of information, and no person is required to respond to nor be subject to a penalty for failure to comply with a collection of information, unless that collection has obtained Office of Management and Budget (OMB) approval and displays a currently valid OMB Control Number.

The Department of Commerce (Department) requested and OMB authorized emergency processing of information collection involved in this rule, consistent with 5 CFR 1320.13. The Automobile Proclamation required the Secretary to establish within 90 days a process for including additional automobile parts articles within the scope of the tariffs proclaimed in the Automobile Proclamation and this IFR informs the public of the establishment of that process. The Automobile Proclamation sets several requirements for the Department to process petitions requesting the inclusion of automobile parts articles under the Automobile Proclamation. It states that the process shall provide for including additional articles at the direction of the Secretary unilaterally, or at the request of a domestic producer of automobiles or automobile parts articles or an industry association representing one or more such producers. Applications for the inclusion of automobile parts articles must establish that imports have increased in a manner that threatens to impair the national security or otherwise undermines the objectives set forth in Proclamation 9888, the Automobile Proclamation, or any subsequent proclamation addressing the threatened impairment to the national security under Section 232. The Automobile Proclamation directs that the Secretary issue a determination on any such request within 60 days of its receipt. The immediate implementation of an effective inclusions request process, consistent with the intent of the Automobile Proclamation, also requires creating a process to allow any individual or organization in the United States to submit inclusion requests and to submit comments in response to such inclusion requests submitted by the public. The Department has determined the following conditions have been met:

a. The collection of information is needed before the expiration of time periods normally associated with a routine submission for review under the provisions of the PRA in view of the Automobile Proclamation, https://www.federalregister.gov/documents/2025/04/03/2025-05930/adjusting-imports-of-automobiles-and-automobile-parts-into-the-united-states.

b. The collection of information is essential to the mission of the Department, in particular to the adjudication of automobile parts articles inclusions requests.

c. The use of normal clearance procedures would prevent the collection of information of automobile parts articles inclusions requests for national security purposes.

Agency: Commerce Department.

Type of Information Collection: New Collection.

Title of the Collection: Inclusions to the Section 232 National Security Adjustments to Automobile Parts Imports.

Affected Public: Private Sector—Businesses.

Total Estimated Number of Respondents: 50.

Response Periods per Year: 4.

Total Estimated Number of Responses: 200.

Average Time per Response: 8 hours.

Total Annual Time Burden: 1,600.

Type of Information Collection: Emergency Collection.

OMB Control Number: 0625-0284.

3. This rule does not contain policies with Federalism implications as that term is defined in Executive Order 13132.

4. The provisions of the Administrative Procedure Act (APA) (5 U.S.C. 553) requiring notice of proposed rulemaking, the opportunity for public comment, and a delay in effective date are inapplicable because this regulation involves a military function of the United States (5 U.S.C. 553(a)(1)) because automobiles and automobile parts production is vital to the U.S. national security. After receiving a report from the Secretary finding that automobiles and automobile parts are being imported into the United States in such quantities or under such circumstances as to threaten to impair the national security of the United States, the President determined that he concurred in the Secretary's finding and determined the nature and duration of the action that, in the judgment of the President, must be taken to adjust the imports of the articles so that such imports will not threaten to impair the national security (as described in Proclamation 9888 and the Automobile Proclamation).

In the President's judgment, that implementation includes the creation of an effective process by which affected domestic parties can submit inclusion requests based on imports that “threaten to impair the national security” of the United States. The President has imposed tariffs to reduce or eliminate the threat to national security posed by imports of such products and directed the Secretary to set up this process as part of the adjustment-of-imports system the President adopted to protect critical U.S. national security interests. The immediate implementation of this inclusion process, as directed by the President, is necessary to identify additional automobile parts articles that warrant tariffs to protect U.S. national security interests. Specifically, delaying the adoption of these changes to solicit public comments would further delay the identification and imposition of tariffs on such products to protect U.S. national security.

Even if 553(a)(1) did not apply, the Department also finds that there is good cause to exempt this rule from the APA requirements for public notice and comment under 5 U.S.C. 553(b)(B) and delayed effective date under 5 U.S.C. 553(d)(3) because it would be contrary to the public interest to have a notice and comment period or other delay prior to this action taking effect. Specifically, delaying adoption of this inclusion process would harm the national security of the United States and harm U.S. manufacturers by further delaying their ability to request relief from these imports that are damaging their companies and the U.S. defense industrial base in the process. The U.S. defense industrial base is critical to protecting U.S. national security and implementation of this inclusions process is necessary to be adopted as soon as possible to mitigate any potential national security threat that acts as a detriment to the public interest.

5. Because neither the APA nor any other law requires an opportunity for public comment be given for this rule, the analytical requirements of the Regulatory Flexibility Act (5 U.S.C. 601 et seq.) are not applicable. Accordingly, no Final Regulatory Flexibility Analysis is required and none has been prepared.

List of Subjects in 15 CFR Part 705

Administrative practice and procedure, Business and industry, Classified information, Confidential business information, Imports, Investigations, National defense.

For the reasons set forth in the preamble, part 705 of subchapter A of 15 CFR chapter VII is amended as follows:

PART 705—EFFECT OF IMPORTED ARTICLES ON THE NATIONAL SECURITY

1. The authority citation for part 705 continues to read as follows:

Authority: Section 232 of the Trade Expansion Act of 1962, as amended (19 U.S.C. 1862) and Reorg. Plan No. 3 of 1979 (44 FR 69273, December 3, 1979).

2. Add Supplement No. 2 to part 705 to read as follows:

Supplement No. 2 to Part 705—Requirements for Submissions Requesting Inclusions to the Adjustment of Imports of Automobiles and Automobile Parts Pursuant to Section 232 of the Trade Expansion Act of 1962, as Amended

On March 26, 2025, the President issued Proclamation 10908, “Adjusting Imports of Automobiles and Automobile Parts into The United States” (Automobile Proclamation), which imposed additional tariffs on certain automobiles and automobile parts. The Automobile Proclamation also required the Secretary of Commerce to establish a process for including additional automobile parts articles for passenger vehicles and light trucks within the scope of the tariffs imposed by the Automobile Proclamation. In addition to inclusions made by the Secretary of Commerce (the Secretary), the process is to provide for including additional automobile parts articles at the request of a domestic producer of an automobile or automobile parts article, or an industry association representing one or more such producers, where the request establishes that imports of additional automobile parts articles have increased in a manner that threatens to impair the national security or otherwise undermines the objectives set forth in Proclamation 9888, the Automobile Proclamation, or any subsequent proclamation addressing the threatened impairment to the national security under Section 232 of the Trade Expansion Act of 1962, as amended (Section 232). When the Secretary receives such a request from a domestic producer or industry association, the Secretary, after consultation with the United States International Trade Commission and U.S. Customs and Border Protection, is to issue a determination regarding whether to include the articles within 60 days of receiving the request. Any additional automobile parts articles that the Secretary has determined to be included within the scope of the Automobile Proclamation tariffs are to be so included in the Federal Register describing the determination. The Federal Register notice will note the effective date of duties. The notice in the Federal Register is to be made as soon as practicable but no later than 14 days after the Secretary's determination.

(a) Scope. This supplement specifies the requirements and process for how directly affected parties located in the United States may submit requests for inclusions to the duties imposed by the President. This supplement also specifies the requirements and process for how parties in the United States may submit inclusion requests (both business confidential and public versions) and public comments in response to submitted inclusion requests for inclusion of automobile parts articles in the tariffs imposed by the President under the Automobile Proclamation (collectively, 232 submissions). This supplement also identifies the time periods for such submissions, the methods of submission, and the information that must be included in such submissions. This supplement also identifies the process for analysis of the submissions and public comments and the action taken upon the final determinations by the Secretary or designee.

(b) Inclusion requests. Who may submit an inclusion request?

(1) Producers of automobiles or automobile parts within the United States; or

(2) An industry association representing one or more such producers may submit inclusion requests.

(c) Timeframe of submitting requests. The International Trade Administration (ITA) will open a submissions window to receive automobile parts articles inclusion requests from industry during two-week submission windows four times annually, beginning on the first business day of each January, April, July, and October; the first such window is to open starting on October 1, 2025. All two-week submissions will occur on the first of the prescribed months.

(d) Inclusion request requirements. For the request to be considered a valid request, the requestor must adhere to the following general requirements and provide the following:

(1) Submission through the automobile inclusions process inbox at AutoInclusions@trade.gov within the 14-day public comment window;

(2) Requests must be submitted in PDF format;

(3) Limited to 30 pages inclusive of all attachments;

(4) Any business confidential submissions must also include a non-confidential public version;

(5) Clear identification of the applicant (i.e., individual, company, or trade association);

(6) A precise description of the automobile parts article;

(7) The eight or ten-digit Harmonized Tariff Schedule of the United States (HTSUS) classification that serves as the basis for the determination;

(8) An explanation of why the article is an automobile parts article;

(9) Pertinent information on the domestic industry affected;

(10) Statistics on imports and domestic production; and

(11) A description of how and to what extent imports of the article threaten to impair the national security or otherwise undermines the objectives set forth in Proclamation 9888, the Automobile Proclamation, or any subsequent proclamation addressing the threatened impairment to the national security under Section 232.

(e) Review of inclusion petition requests. ITA will review the received requests on a rolling basis during the two-week submission window to validate that the received requests contain all the required elements and do not exceed the page limitation. In the instance where the requestor did not include all the required elements or improperly filed the submission, at the discretion of the Under Secretary for International Trade, the requestor will be granted a 48-hour window to resubmit a proper filing.

(f) Where and how to submit public comments—(1) Where to submit? Public comments are to be made via regulations.gov via the regulations.gov ID. The following regulations.gov IDs correspond to the four annual windows: January regulations.gov ID: ITA-2025-0039, April regulations.gov ID: ITA-2025-0040, July regulations.gov ID: ITA-2025-0037; and October regulations.gov ID: ITA-2025-0038. You may submit business confidential and public version public comments, identified by the regulations.gov ID above through the Federal eRulemaking website: https://www.regulations.gov. No other submission methods are being used for submitting public comments for the inclusions process. Follow the instructions for submitting public comments. All filers using the regulations.gov should use the name of the person or entity submitting the comments as the name of their files, in accordance with the instructions below. Anyone submitting business confidential information should clearly identify the business confidential portion at the time of submission, file a statement justifying nondisclosure and referring to the specific legal authority claimed, and provide a non-confidential version of the submission.

(2) Business confidential submissions. For comments submitted electronically containing business confidential information, the file name of the business confidential version should begin with the characters “BC.” Any page containing business confidential information must be clearly marked “BUSINESS CONFIDENTIAL” on the top of that page. The corresponding non-confidential version of the comments must be clearly marked “PUBLIC.” The file name of the non-confidential version should begin with the character “P.” The “BC” and “P” should be followed by the name of the person or entity submitting the comments. Any submissions with file names that do not begin with a “BC” or “P” will be assumed to be public and will be made publicly available through https://www.regulations.gov. Commenters submitting business confidential information are encouraged to scan a hard copy of the non-confidential version to create an image of the file, rather than submitting a digital copy with redactions applied, to avoid inadvertent redaction errors which could enable the public to read business confidential information.

(g) Review and Public Comment Phase. ITA will publicly post non-confidential versions of all valid requests for a 14-day public comment window on https://regulations.gov after the conclusion of the two-week submission window. Members of the public will have the opportunity to comment on the inclusion requests submitted by parties. Collecting public comments ensures a transparent, complete, and legally robust process for conducting analysis and making final determinations of derivative inclusion requests. ITA will review all accepted inclusion requests and public comments.

(h) Decision Phase. The Secretary or designee will sign a positive or negative determination. After the determination, ITA will, for each inclusions request, and, within 60 days of receiving the request, generate and publicly post on regulations.gov a determination memorandum that:

(1) States whether the request was approved or denied; and

(2) Summarizes the rationale for making this determination.

(3) The date of signature on the determination memorandum must be prior to the close of the respective 60-day derivative inclusion processing period, as directed in the Automobile Proclamation. A Federal Register notice will then be issued that modifies Annex I to the Automobile Proclamation with the included products at the eight- to ten-digit HTSUS subheadings. Duties on newly included articles will take effect on the date specified in that Federal Register notice.

Robby Saunders,
Deputy Assistant Secretary for Technology Security.

[FR Doc. 2025-18015 Filed 9-16-25; 8:45 am]

BILLING CODE 3510-DR-P